DEPARTMENT OF THE INTERIOR

National Park Service

[NPS-WASO-NAGPRA-NPS0024293; PPWOCRADN0-PCU00RP14.R50000]

Notice of Intent To Repatriate Cultural Items: Andover Newton Theological School, Newton Centre, MA

AGENCY: National Park Service, Interior.

ACTION: Notice.

SUMMARY: Andover Newton Theological School, in consultation with the appropriate Indian Tribes or Native Hawaiian organizations, has determined that the cultural item listed in this notice meets the definition of object of cultural patrimony. Lineal descendants or representatives of any Indian Tribe or Native Hawaiian organization not identified in this notice that wish to claim this cultural item should submit a written request to Andover Newton Theological School. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to Andover Newton Theological School at the address in this notice by January 5, 2018.

ADDRESSES: Kathleen Hamilton, Representative, Andover Newton Theological School, 409 Prospect Street, New Haven, CT 06511, telephone (203) 436-9970, email kathleen.hamilton@ants.edu.

SUPPLEMENTARY INFORMATION: Notice is here given in accordance with the Native American Graves Protection and Repatriation Act (NAGPRA), 25 U.S.C. 3005, of the intent to repatriate cultural items under the control of Andover Newton Theological School that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

At an unknown date, one cultural item was removed from an unknown location and donated to Andover Newton Theological School. It is unclear who donated the object to Andover Newton Theological School or from where it was acquired. The one object of cultural patrimony is a wampum belt.

The cultural affiliation of the wampum belt was determined with Anthony Gonyea, Faithkeeper for the Onondaga Nation and NAGPRA representative. Additional consultation with representatives of the Onondaga Nation confirmed that the object is Haudenosaunee. Haudenosaunee oral history demonstrates how wampum became sacred to the Haudenosaunee and its cultural importance to the Onondaga Nation, one of the constituents of the Haudenosaunee Confederacy. Cultural traditions establish that the Onondaga Nation is the Wampum Keeper of the Haudenosaunee and that all wampum without a specific community origin should be affiliated and repatriated to the Onondaga on behalf of the Haudenosaunee.

Determinations Made by Andover Newton Theological School

Officials of Andover Newton Theological School have determined that:

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the objects of cultural patrimony and the Onondaga Nation.

Additional Requestors and Disposition

Lineal descendants or representatives of any Indian Tribe or Native Hawaiian organization not identified in this notice that wish to claim this cultural item should submit a written request with information in support of the claim to Kathleen Hamilton, Representative, Andover Newton Theological School, 409 Prospect Street, New Haven, CT 06511, telephone (203) 436-9970, email kathleen.hamilton@ants.edu, by January 5, 2018. After that date, if no additional claimants have come forward, transfer of control of the object of cultural patrimony to the Onondaga Nation may proceed.

Andover Newton Theological School is responsible for notifying the Onondaga Nation that this notice has been published.

Dated: October 2, 2017.
Melanie O'Brien,
Manager, National NAGPRA Program.

[FR Doc. 2017-26288 Filed 12-5-17; 8:45 am]

BILLING CODE 4312-52-P